ENVIRONMENTAL PROTECTION AGENCY

40 CFR Part 63

[EPA-HQ-OAR-2018-0815; FRL 10016-14-OAR]

RIN 2060-AU39

Test Methods and Performance Specifications for Air Emission Sources; Correction

AGENCY: Environmental Protection Agency (EPA).

ACTION: Final rule; correction.

SUMMARY: The Environmental Protection Agency (EPA) is correcting a final rule that was published in the Federal Register on October 7, 2020, and will be effective on December 7, 2020. The final rule corrected and updated regulations for source testing of emissions. This correction does not change any final action taken by the EPA on October 7, 2020; this action merely provides further clarification on the amendatory instructions for Method 311.

DATES: The final rule is effective on December 7, 2020.

ADDRESSES: The EPA has established a docket for this action under Docket ID No. EPA-HQ-OAR-2018-0815. All documents in the docket are listed at http://www.regulations.gov. Although listed in the index, some information is not publicly available, e.g., confidential business information or other information whose disclosure is restricted by statute. Certain other material, such as copyrighted material, is not placed on the internet and will be publicly available only in hard copy. Publicly available docket materials are available electronically through http://www.regulations.gov.

FOR FURTHER INFORMATION CONTACT: Mrs. Lula H. Melton, Office of Air Quality Planning and Standards, Air Quality Assessment Division (E143-02), Environmental Protection Agency, Research Triangle Park, NC 27711; telephone number: (919) 541-2910; fax number: (919) 541-0516; email address: melton.lula@epa.gov.

SUPPLEMENTARY INFORMATION: In FR doc 2020-18824 at 85 FR 63394 in the issue of October 7, 2020, the following correction to an amendatory instruction to “Appendix A to Part 63” is made.

On page 63419, in the second column, amendatory instruction 34.c is corrected to read: “c. In Method 311, revising sections 1.1 and 17.4 through 17.6;”

Anne Austin,
Principal Deputy Assistant Administrator, Office of Air and Radiation.

[FR Doc. 2020-23690 Filed 12-1-20; 8:45 am]

BILLING CODE 6560-50-P